DEPARTMENT OF HEALTH AND HUMAN SERVICES

National Institutes of Health

Center for Scientific Review; Amended Notice of Meeting

Notice is hereby given of a change in the meeting of the Center for Scientific Review Special Emphasis Panel, October 5, 2006, 1 p.m. to October 5, 2006, 3 p.m., National Institutes of Health, 6701 Rockledge Drive, Bethesda, MD 20892, which was published in the Federal Register on September 11, 2006, 71 FR 53458-53460.

The meeting will be held on October 23, 2006, from 2 p.m. to 4 p.m. The meeting location remains the same. The meeting is closed to the public.

Dated: September 22, 2006.
Anna Snouffer,
Acting Director, Office of Federal Advisory Committee Policy.

[FR Doc. 06-8341 Filed 9-28-06; 8:45 am]

BILLING CODE 4140-01-M